COMMISSION ON CIVIL RIGHTS

Notice of Public Meeting of the West Virginia Advisory Committee; Cancellation

AGENCY: Commission on Civil Rights.

ACTION: Notice; cancellation of business meeting.

SUMMARY: The Commission on Civil Rights published a notice in the Federal Register concerning a meeting of the West Virginia Advisory Committee. The meeting scheduled for Tuesday, September 6, 2022, at 11:30 a.m. ET is cancelled. The notice is in the Federal Register of Monday, April 11, 2022, in FR Doc. 2022-07663, in the third column of page 21091 and the first column of page 21092.

FOR FURTHER INFORMATION CONTACT: Ivy Davis, DFO, at idavis@usccr.gov or (202) 376-7756.

Dated: August 24, 2022.
David Mussatt,
Supervisory Chief, Regional Programs Unit.

[FR Doc. 2022-18579 Filed 8-26-22; 8:45 am]

BILLING CODE P